DEPARTMENT OF ENERGY

Federal Energy Regulatory Commission

Combined Notice of Filings #1

Take notice that the Commission received the following electric rate filings:

Docket Numbers: ER10-1355-004.

Applicants: Southern California Edison Company.

Description: Market-Based Rate Triennial Filing for Southwest Region of Southern California Edison Company.

Filed Date: 12/17/15.

Accession Number: 20151217-5277.

Comments Due: 5 p.m. ET 2/16/16.

Docket Numbers: ER13-1928-008.

Applicants: Duke Energy Carolinas, LLC, Duke Energy Progress, LLC.

Description: Compliance filing: Order No. 1000 Interregional SERTP MISO Filing to be effective 1/1/2015.

Filed Date: 12/17/15.

Accession Number: 20151217-5159.

Comments Due: 5 p.m. ET 1/7/16.

Docket Numbers: ER13-1930-007.

Applicants: Louisville Gas and Electric Company.

Description: Compliance filing: Order No. 1000 Interregional SERTP MISO Compliance to be effective 1/1/2015.

Filed Date: 12/17/15.

Accession Number: 20151217-5189.

Comments Due: 5 p.m. ET 1/7/16.

Docket Numbers: ER13-1940-008.

Applicants: Ohio Valley Electric Corporation.

Description: Compliance filing: Compliance Filing for SERTP and MISO M-2 to be effective 1/1/2015.

Filed Date: 12/17/15.

Accession Number: 20151217-5166.

Comments Due: 5 p.m. ET 1/7/16.

Docket Numbers: ER13-1941-007.

Applicants: Alabama Power Company.

Description: Compliance filing: Order No. 1000 Third Interregional Compliance Filing—SERTP-MISO Seam to be effective 1/1/2015.

Filed Date: 12/17/15.

Accession Number: 20151217-5191.

Comments Due: 5 p.m. ET 1/7/16.

Docket Numbers: ER14-2882-002.

Applicants: The Empire District Electric Company.

Description: Compliance filing: Compliance Filing Revising Protocols to be effective 4/1/2015.

Filed Date: 12/17/15.

Accession Number: 20151217-5150.

Comments Due: 5 p.m. ET 1/7/16.

Docket Numbers: ER15-356-004; ER15-357-004; ER12-2570-010; ER13-618-009.

Applicants: Allegheny Ridge Wind Farm, LLC, Aragonne Wind LLC, ArcLight Energy Marketing, LLC, Buena Vista Energy, LLC, Caprock Wind LLC, Chief Conemaugh Power, LLC, Chief Keystone Power, LLC, GSG, LLC, Kumeyaay Wind LLC, Mendota Hills, LLC, Panther Creek Power Operating, LLC, Westwood Generation, LLC.

Description: Supplement to November 25, 2015 Notice of Non-Material Change in Status of Chief Conemaugh Power, LLC, et. al.

Filed Date: 12/18/15.

Accession Number: 20151218-5051.

Comments Due: 5 p.m. ET 1/8/16.

Docket Numbers: ER15-2510-000.

Applicants: Wisconsin Electric Power Company.

Description: Report Filing: Wisconsin Electric Refund Report in ER15-2510 and ER15-2511 to be effective N/A.

Filed Date: 12/17/15.

Accession Number: 20151217-5204.

Comments Due: 5 p.m. ET 1/7/16.

Docket Numbers: ER16-544-000.

Applicants: PJM Interconnection, L.L.C.

Description: § 205(d) Rate Filing: Original Service Agreement No. 4316 (Z1-086 ISA); Cancellation of SA No. 3886 to be effective 11/18/2015.

Filed Date: 12/17/15.

Accession Number: 20151217-5152.

Comments Due: 5 p.m. ET 1/7/16.

Docket Numbers: ER16-545-000.

Applicants: California Independent System Operator Corporation.

Description: § 205(d) Rate Filing: Amend. No. 3 to NVE ABAOA to be effective 12/18/2015.

Filed Date: 12/17/15.

Accession Number: 20151217-5190.

Comments Due: 5 p.m. ET 1/7/16.

Docket Numbers: ER16-546-000.

Applicants: San Diego Gas & Electric Company.

Description: § 205(d) Rate Filing: 2016 SDGE RS Update to Transmission Owner Tariff to be effective 1/1/2016.

Filed Date: 12/17/15.

Accession Number: 20151217-5192.

Comments Due: 5 p.m. ET 1/7/16.

Docket Numbers: ER16-547-000.

Applicants: NorthWestern Corporation.

Description: § 205(d) Rate Filing: SA 31 14th Rev—NITSA with ConocoPhillips Company to be effective 3/1/2016.

Filed Date: 12/17/15.

Accession Number: 20151217-5195.

Comments Due: 5 p.m. ET 1/7/16.

Docket Numbers: ER16-548-000.

Applicants: NorthWestern Corporation.

Description: § 205(d) Rate Filing: SA 32 6th Rev—NITSA with Colstrip Steam Electric Station to be effective 3/1/2016.

Filed Date: 12/17/15.

Accession Number: 20151217-5197.

Comments Due: 5 p.m. ET 1/7/16.

Docket Numbers: ER16-549-000.

Applicants: NorthWestern Corporation.

Description: § 205(d) Rate Filing: SA 35 3rd Rev—NITSA with The Town of Philipsburg to be effective 3/1/2016.

Filed Date: 12/17/15.

Accession Number: 20151217-5198.

Comments Due: 5 p.m. ET 1/7/16.

Docket Numbers: ER16-550-000.

Applicants: San Diego Gas & Electric Company.

Description: § 205(d) Rate Filing: 2016 SDGE TRBAA TACBAA update to Transmission Owner Tariff Filing to be effective 1/1/2016.

Filed Date: 12/17/15.

Accession Number: 20151217-5199.

Comments Due: 5 p.m. ET 1/7/16.

Docket Numbers: ER16-551-000.

Applicants: ISO New England Inc.

Description: § 205(d) Rate Filing: Forward Capacity Market Retirement Reforms to be effective 2/16/2016.

Filed Date: 12/17/15.

Accession Number: 20151217-5200.

Comments Due: 5 p.m. ET 1/7/16.

Docket Numbers: ER16-552-000.

Applicants: Consumers Energy Company.

Description: § 205(d) Rate Filing: Notice of Succession to be effective 12/1/2015.

Filed Date: 12/17/15.

Accession Number: 20151217-5207.

Comments Due: 5 p.m. ET 1/7/16.

Docket Numbers: ER16-553-000.

Applicants: San Diego Gas & Electric Company.

Description: Baseline eTariff Filing: SDGE Merchant OM Agreement-Baseline Filing to be effective 12/17/2015.

Filed Date: 12/17/15.

Accession Number: 20151217-5228.

Comments Due: 5 p.m. ET 1/7/16.

Docket Numbers: ER16-554-000.

Applicants: Nevada Power Company.

Description: Initial rate filing: Rate Schedule No. 151 NPC with SDGandE RS 100 Concurrence to be effective 12/18/2015.

Filed Date: 12/17/15.

Accession Number: 20151217-5229.

Comments Due: 5 p.m. ET 1/7/16.

Docket Numbers: ER16-555-000.

Applicants: Trans Bay Cable LLC.

Description: § 205(d) Rate Filing: TRBAA Filing to be effective 1/1/2016.

Filed Date: 12/17/15.

Accession Number: 20151217-5232.

Comments Due: 5 p.m. ET 1/7/16.

Docket Numbers: ER16-556-000.

Applicants: San Diego Gas & Electric Company.

Description: Initial rate filing: SDGE Merchant OM Agreement to be effective 12/18/2015.

Filed Date: 12/18/15.

Accession Number: 20151218-5000.

Comments Due: 5 p.m. ET 1/8/16.

Docket Numbers: ER16-557-000.

Applicants: California Independent System Operator Corporation.

Description: Petition for Approval of Disposition of Proceeds of Penalty Assessments of California Independent System Operator Corporation.

Filed Date: 12/17/15.

Accession Number: 20151217-5271.

Comments Due: 5 p.m. ET 1/7/16.

Docket Numbers: ER16-558-000.

Applicants: NorthWestern Corporation.

Description: § 205(d) Rate Filing: SA 243 9th Rev—NITSA with CHS Inc. to be effective 3/1/2016.

Filed Date: 12/18/15.

Accession Number: 20151218-5058.

Comments Due: 5 p.m. ET 1/8/16.

Docket Numbers: ER16-559-000.

Applicants: NorthWestern Corporation.

Description: § 205(d) Rate Filing: SA 290 7th Rev—NITSA with Oldcastle Materials Cement Holdings to be effective 3/1/2016.

Filed Date: 12/18/15.

Accession Number: 20151218-5059.

Comments Due: 5 p.m. ET 1/8/16.

Docket Numbers: ER16-560-000.

Applicants: NorthWestern Corporation.

Description: § 205(d) Rate Filing: SA 304 9th Rev—NITSA with Barretts Minerals to be effective 3/1/2016.

Filed Date: 12/18/15.

Accession Number: 20151218-5060.

Comments Due: 5 p.m. ET 1/8/16.

Docket Numbers: ER16-561-000.

Applicants: PJM Interconnection, L.L.C.

Description: § 205(d) Rate Filing: Revisions to OATT Schedule 9—CAPS Funding Proposal to be effective 3/1/2016.

Filed Date: 12/18/15.

Accession Number: 20151218-5064.

Comments Due: 5 p.m. ET 1/8/16.

Docket Numbers: ER16-562-000.

Applicants: PJM Interconnection, L.L.C.

Description: § 205(d) Rate Filing: Revised Service Agreement Nos. 4141 (ISA) and 4220 (CSA); Queue AA1-034 to be effective 11/18/2015.

Filed Date: 12/18/15.

Accession Number: 20151218-5078.

Comments Due: 5 p.m. ET 1/8/16.

Docket Numbers: ER16-563-000.

Applicants: Southern California Edison Company.

Description: § 205(d) Rate Filing: 2 GIAs and 2 Distribution Service Agreements, Coram Energy, LLC to be effective 12/6/2015.

Filed Date: 12/18/15.

Accession Number: 20151218-5081.

Comments Due: 5 p.m. ET 1/8/16.

Docket Numbers: ER16-564-000.

Applicants: Midcontinent Independent System Operator, Inc., ITC Midwest LLC.

Description: § 205(d) Rate Filing: 2015-12-18_SA 2877 ITC Midwest-SMMPA TIA to be effective 2/16/2016.

Filed Date: 12/18/15.

Accession Number: 20151218-5106.

Comments Due: 5 p.m. ET 1/8/16.

Take notice that the Commission received the following public utility holding company filings:

Docket Numbers: PH16-2-000.

Applicants: Starwood Energy Group Global, L.L.C.

Description: Starwood Energy Group Global, L.L.C. submits FERC 65-B Material Change in Facts of Waiver Notification.

Filed Date: 12/18/15.

Accession Number: 20151218-5038.

Comments Due: 5 p.m. ET 1/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2015.
Nathaniel J. Davis, Sr.,
Deputy Secretary.

[FR Doc. 2015-32399 Filed 12-23-15; 8:45 am]

BILLING CODE 6717-01-P